SUSQUEHANNA RIVER BASIN COMMISSION

Public Hearing

AGENCY: Susquehanna River Basin Commission.

ACTION: Notice.

SUMMARY: The Susquehanna River Basin Commission will hold a public hearing on August 15, 2013, in Harrisburg, Pennsylvania. At this public hearing, the Commission will hear testimony on the projects listed in the Supplementary Information section of this notice. Such projects are intended to be scheduled for Commission action at its next business meeting, tentatively scheduled for September 19, 2013, which will be noticed separately. The public should take note that this public hearing will be the only opportunity to offer oral comment to the Commission for the listed projects. The deadline for the submission of written comments is August 26, 2013.

DATES: The public hearing will convene on August 15, 2013, at 1:00 p.m. The public hearing will end at 2:45 p.m. or at the conclusion of public testimony, whichever is sooner. The deadline for the submission of written comments is August 26, 2013.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436. Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Opportunity To Appear and Comment

Interested parties may appear at the hearing to offer comments to the Commission on any project listed below. The presiding officer reserves the right to limit oral statements in the interest of time and to otherwise control the course of the hearing. Ground rules will be posted on the Commission's Web site, www.srbc.net, prior to the hearing for review. The presiding officer reserves the right to modify or supplement such rules at the hearing. Written comments on any project listed below may also be mailed to Mr. Richard Cairo, General Counsel, Susquehanna River Basin Commission, 1721 North Front Street, Harrisburg, PA 17102-2391 (beginning July 29, 2013, the Commission's address is 4423 North Front Street, Harrisburg, PA 17110-1788), or submitted electronically through http://www.srbc.net/pubinfo/publicparticipation.htm. Comments mailed or electronically submitted must be received by the Commission on or before August 26, 2013, to be considered.

SUPPLEMENTARY INFORMATION: The public hearing will cover the following projects:

Projects Scheduled for Rescission Action

1. Project Sponsor and Facility: Chevron Appalachia, LLC (Cambria Somerset Authority), Summerhill Township, Cambria County, PA (Docket No. 20110630).

2. Project Sponsor and Facility: Chevron Appalachia, LLC (Highland Sewer and Water Authority), Portage Township, Cambria County, PA (Docket No. 20110631).

Projects Scheduled for Action

1. Project Sponsor and Facility: Borough of Akron, Lancaster County, PA. Application for renewal of groundwater withdrawal of up to 0.396 mgd (30-day average) from Well 5A (Docket No. 19811201).

2. Project Sponsor and Facility: Borough of Akron, Lancaster County, PA. Application for renewal of groundwater withdrawal of up to 0.166 mgd (30-day average) from Well 6 (Docket No. 19820101).

3. Project Sponsor and Facility: Borough of Akron, Lancaster County, PA. Application for renewal of groundwater withdrawal of up to 0.187 mgd (30-day average) from Well 8 (Docket No. 19820101).

4. Project Sponsor and Facility: Aqua Infrastructure, LLC (Tioga River), Hamilton Township, Tioga County, PA. Application for surface water withdrawal of up to 2.500 mgd (peak day).

5. Project Sponsor and Facility: Bending River Estates (Tioga River), Town of Lindley, Steuben County, NY. Application for surface water withdrawal of up to 0.400 mgd (peak day).

6. Project Sponsor and Facility: Cabot Oil & Gas Corporation (Meshoppen Creek), Lemon Township, Wyoming County, PA. Modification to increase surface water withdrawal by an additional 0.446 mgd (peak day), for a total of 0.500 mgd (peak day) (Docket No. 20121202).

7. Project Sponsor and Facility: Cabot Oil & Gas Corporation (Meshoppen Creek), Springville Township, Susquehanna County, PA. Application for surface water withdrawal of up to 0.500 mgd (peak day).

8. Project Sponsor and Facility: Chesapeake Appalachia, LLC (Chemung River), Athens Township, Bradford County, PA. Application for renewal of surface water withdrawal of up to 0.999 mgd (peak day) (Docket No. 20090603).

9. Project Sponsor and Facility: Chesapeake Appalachia, LLC (Sugar Creek), Burlington Township, Bradford County, PA. Application for renewal of surface water withdrawal of up to 0.499 mgd (peak day) (Docket No. 20090604).

10. Project Sponsor and Facility: Chesapeake Appalachia, LLC (Susquehanna River), Athens Township, Bradford County, PA. Application for renewal of surface water withdrawal of up to 1.440 mgd (peak day) (Docket No. 20080906).

11. Project Sponsor and Facility: Chesapeake Appalachia, LLC (Susquehanna River), Terry Township, Bradford County, PA. Application for renewal of surface water withdrawal of up to 1.440 mgd (peak day) (Docket No. 20090605).

12. Project Sponsor and Facility: DS Waters of America, Inc., Clay Township, Lancaster County, PA. Application for renewal of groundwater withdrawal of up to 0.115 mgd (30-day average) from Well 6 (Docket No. 20000203).

13. Project Sponsor and Facility: Town of Erwin, City of Corning, Steuben County, NY. Application for groundwater withdrawal of up to 0.504 mgd (30-day average) from Well 5R.

14. Project Sponsor and Facility: Global Tungsten & Powders Corp., Towanda Borough, Bradford County, PA. Application for groundwater withdrawal of up to 4.800 mgd (30-day average) from a Well Field (Wells 1, 2, 6, 7, 8, 9, 10, 11, and 12).

15. Project Sponsor and Facility: Houtzdale Municipal Authority, Gulich Township, Clearfield County, PA. Application for groundwater withdrawal of up to 0.537 mgd (30-day average) from Well 14R.

16. Project Sponsor and Facility: LHP Management, LLC (Fishing Creek—Clinton Country Club), Bald Eagle Township, Clinton County, PA. Application for renewal of surface water withdrawal of up to 0.999 mgd (peak day) (Docket No. 20090906).

17. Project Sponsor and Facility: Millersburg Area Authority, Upper Paxton Township, Dauphin County, PA. Application for renewal of groundwater withdrawal of up to 0.173 mgd (30-day average) from Well 10 (Docket No. 19830309).

18. Project Sponsor and Facility: Millersburg Area Authority, Upper Paxton Township, Dauphin County, PA. Application for renewal of groundwater withdrawal of up to 0.187 mgd (30-day average) from Well 11 (Docket No. 19830309).

19. Project Sponsor and Facility: Southwestern Energy Production Company (Wyalusing Creek), Wyalusing Township, Bradford County, PA. Application for renewal of surface water withdrawal with modification to increase by an additional 0.500 mgd (peak day), for a total of 2.000 mgd (peak day) (Docket No. 20090914).

20. Project Sponsor and Facility: State College Borough Water Authority, Ferguson Township, Centre County, PA. Application for renewal of groundwater withdrawal of up to 0.432 mgd (30-day average) from Well 41 (Docket No. 19820501).

21. Project Sponsor and Facility: State College Borough Water Authority, Ferguson Township, Centre County, PA. Application for renewal of groundwater withdrawal of up to 1.440 mgd (30-day average) from Well 43 (Docket No. 19820501).

22. Project Sponsor and Facility: State College Borough Water Authority, Ferguson Township, Centre County, PA. Application for renewal of groundwater withdrawal of up to 1.720 mgd (30-day average) from Well 53 (Docket No. 19820501).

23. Project Sponsor and Facility: Susquehanna Gas Field Services, L.L.C. (Meshoppen Creek), Meshoppen Borough, Wyoming County, PA. Application for renewal of surface water withdrawal of up to 0.145 mgd (peak day) (Docket No. 20090628).

24. Project Sponsor: SWEPI LP (Tioga River), Richmond Township, Tioga County, PA. Application for renewal of surface water withdrawal with modification to increase by an additional 0.843 mgd (peak day), for a total of 0.950 mgd (peak day) (Docket No. 20090612).

25. Project Sponsor and Facility: Winner Water Services, Inc. (Manor #44 Deep Mine), Girard Township, Clearfield County, PA. Application for surface water withdrawal of up to 0.144 mgd (peak day).

Project Scheduled for Action Involving a Diversion

1. Project Sponsor: Winner Water Services, Inc. Project Facility: Sykesville Mine AMD, Borough of Sykesville, Jefferson County, PA. Application for an into-basin diversion of up to 1.000 mgd from the Ohio River Basin.

Authority: Public Law 91-575, 84 Stat. 1509 et seq., 18 CFR Parts 806-808.

Dated: July 12, 2013.
Paul O. Swartz,
Executive Director.

[FR Doc. 2013-17431 Filed 7-19-13; 8:45 am]

BILLING CODE 7040-01-P